COMMODITY FUTURES TRADING COMMISSION

Sunshine Act Meetings

Time and Date: 2 p.m., Wednesday, May 21, 2008.

Place: 1155 21st St., NW., Washington, DC, 9th Floor Commission Conference Room.

Status: Closed.

Matters to be Considered: Enforcement Matters.

Contact Person for More Information: Sauntia S. Warfield, 202-418-5084.

David A. Stawick,
Secretary of the Commission.

[FR Doc. 08-1159 Filed 4-16-08; 4:02 pm]

BILLING CODE 6351-01-P